DEPARTMENT OF HEALTH AND HUMAN SERVICES

Food and Drug Administration

[Docket No. 2007F-0478]

Kemira Oyj; Filing of Food Additive Petition (Animal Use); Partially Ammoniated Formic Acid; Correction

AGENCY: Food and Drug Administration, HHS.

ACTION: Notice; correction.

SUMMARY: The Food and Drug Administration (FDA) is correcting a document announcing the filing of a food additive petition that appeared in the Federal Register of January 11, 2008. FDA is correcting the name of the petitioner which was misspelled during document drafting.

DATES: This correction is effective March 18, 2008.

FOR FURTHER INFORMATION CONTACT: George K. Haibel, Center for Veterinary Medicine (HFV-6), Food and Drug Administration, 7519 Standish Pl., Rockville, MD 20855, 240-267-9019, e-mail: george.haibel@fda.hhs.gov.

SUPPLEMENTARY INFORMATION: In FR Doc. E8-316, published on January 11, 2008 (73 FR 2055), the following correction is made:

On page 2055, in the second column, in the SUMMARY and SUPPLEMENTARY INFORMATION sections, “Oyi” is corrected to read “Oyj”.

Dated: March 7, 2008.
Bernadette Dunham,
Director, Center for Veterinary Medicine.

[FR Doc. E8-5453 Filed 3-17-08; 8:45 am]

BILLING CODE 4160-01-S